DEPARTMENT OF COMMERCE

International Trade Administration

A-821-802

Continuation of Suspended Antidumping Duty Investigation: Uranium From the Russian Federation

AGENCY: Import Administration, International Trade Administration, Department of Commerce.

SUMMARY: As a result of the determination by the Department of Commerce (“the Department”) that termination of the Agreement Suspending the Antidumping Investigation on Uranium from the Russian Federation (“Suspension Agreement”) would likely lead to continuation or recurrence of dumping and the determination by the International Trade Commission (“ITC”) that termination of the suspended antidumping duty investigation on uranium from the Russian Federation would likely lead to continuation or recurrence of material injury to an industry in the United States within a reasonably foreseeable time, the Department is publishing this notice of continuation of the Suspension Agreement on uranium from Russia.

EFFECTIVE DATE: August 11, 2006.

FOR FURTHER INFORMATION CONTACT: Sally C. Gannon, Import Administration, International Trade Administration, U.S. Department of Commerce, 14th Street and Constitution Avenue, NW, Washington, DC 20230; telephone: (202) 482-0162.

SUPPLEMENTARY INFORMATION:

Background

On July 1, 2005, the ITC instituted, and the Department initiated, a sunset review of the Suspension Agreement, pursuant to section 751(c) of the Tariff Act of 1930, as amended (“the Act”). See ITC Investigation Nos. 731-TA-539-C (Second Review), Uranium from Russia, 70 FR 38212 (July 1, 2005) and Initiation of Five-year (Sunset) Reviews, 70 FR 38101 (July 1, 2005). As a result of its review, pursuant to sections 751(c) and 752 of the Act, the Department determined that termination of the Suspension Agreement would likely lead to a continuation or recurrence of dumping and notified the ITC of the magnitude of the margin likely to prevail should the Suspension Agreement be terminated. See Final Results of Five-year Sunset Review of Suspended Antidumping Duty Investigation on Uranium from the Russian Federation, 71 FR 32517 (June 6, 2006).

On August 7, 2006, pursuant to section 751(c) of the Act, the ITC determined that termination of the suspended investigation on uranium from the Russian Federation would be likely to lead to continuation or recurrence of material injury to an industry in the United States within a reasonably foreseeable time. See Uranium from Russia, 71 FR 44707 (August 7, 2006) and USITC Publication 3872 (August 2006), entitled “Uranium From Russia, Investigation No. 731-TA-539-C (Second Review).” Therefore, pursuant to Section 351.218(f)(4) of the Department's regulations, the Department is publishing this notice of the continuation of the Suspension Agreement.

Scope

According to the June 3, 1992, preliminary determination, the suspended investigation of uranium from Russia encompassed one class or kind of merchandise.¹ The merchandise included natural uranium in the form of uranium ores and concentrates; natural uranium metal and natural uranium compounds; alloys, dispersions (including cermets), ceramic products, and mixtures containing natural uranium or natural uranium compound; uranium enriched in U235 and its compounds; alloys dispersions (including cermets), ceramic products and mixtures containing uranium enriched in U235 or compounds or uranium enriched in U235; and any other forms of uranium within the same class or kind. The uranium subject to this investigation was provided for under subheadings 2612.10.00.00, 2844.10.10.00, 2844.10.20.10, 2844.10.20.25, 2844.10.20.50, 2844.10.20.55, 2844.10.50, 2844.20.00.10, 2844.20.00.20, 2844.20.00.30, and 2844.20.00.50 of the Harmonized Tariff Schedule of the United States (“HTSUS”).² In addition, the Department preliminarily determined that highly-enriched uranium (“HEU”) (uranium enriched to 20 percent or greater in the isotope uranium-235) is not within the scope of the investigation. On October 30, 1992, the Department issued a suspension of the antidumping duty investigation of uranium from Russia and an amendment of the preliminary determination.³ The notice amended the scope of the investigation to include HEU.⁴ Imports of uranium ores and concentrates, natural uranium compounds, and all other forms of enriched uranium were classifiable under HTSUS subheadings 2612.10.00, 2844.10.20, 2844.20.00, respectively. Imports of natural uranium metal and forms of natural uranium other than compounds were classifiable under HTSUS subheadings 2844.10.10 and 2844.10.50.⁵

¹ The Department based its analysis of the comments on class or kind submitted during the proceeding and determined that the product under investigation constitutes a single class or kind of merchandise. The Department based its analysis on the “Diversified”' criteria (see Diversified Products Corp. v. United States, 6 CIT 1555 (1983); see also Preliminary Determination of Sales at Less Than Fair Value: Uranium from Kazakhstan, Kyrgyzstan, Russia, Tajikistan, Ukraine and Uzbekistan; and Preliminary Determination of Sales at Not Less Than Fair Value: Uranium from Armenia, Azerbaijan, Byelarus, Georgia, Moldova and Turkmenistan, 57 FR 23380, 23382 (June 3, 1992).

² See Preliminary Determination of Sales at Less Than Fair Value: Uranium from Kazakhstan, Kyrgyzstan, Russia, Tajikistan, Ukraine and Uzbekistan; and Preliminary Determination of Sales at Not Less Than Fair Value: Uranium from Armenia, Azerbaijan, Byelarus, Georgia, Moldova and Turkmenistan, 57 FR 23380, 23381 (June 3, 1992).

³ See Antidumping; Uranium from Kazakhstan, Kyrgyszstan, Russia, Tajikistan, Ukraine, and Uzbekistan; Suspension of Investigations and Amendment of Preliminary Determinations, 57 FR 49220 (October 30, 1992).

⁴ See Id. at 49235.

⁵ See Id.

In addition, Section III of the Suspension Agreement provides that uranium ore from Russia that is milled into U3O8 and/or converted into UF6 in another country prior to direct and/or indirect importation into the United States is considered uranium from Russia and is subject to the terms of the Suspension Agreement, regardless of any subsequent modification or blending.⁶ In addition, Section M.1 of the Suspension Agreement in no way prevents Russia from selling directly or indirectly any or all of the HEU in existence at the time of the signing of the agreement and/or low-enriched uranium (“LEU”) produced in Russia from HEU to the Department of Energy (“DOE”), its governmental successor, its contractors, or U.S. private parties acting in association with DOE or the USEC and in a manner not inconsistent with the Suspension Agreement between the United States and Russia concerning the disposition of HEU resulting from the dismantlement of nuclear weapons in Russia.

⁶ See Id. at 49235.

There were three amendments to the Suspension Agreement on Russian uranium. In particular, the second amendment to the Suspension Agreement, published on November 4, 1996, provided for, among other things, the sale in the United States of the natural uranium feed associated with the Russian LEU derived from HEU and included within the scope of the Suspension Agreement Russian uranium which has been enriched in a third country prior to importation into the United States.⁷

⁷ See Amendments to the Agreement Suspending the Antidumping Investigation on Uranium from the Russian Federation, 61 FR 56665 (November 4, 1996). According to the amendment, the latter modification remained in effect until October 3, 1998.

On August 6, 1999, USEC, Inc. and its subsidiary, United States Enrichment Corporation (collectively, “USEC”) requested that the Department issue a scope ruling to clarify that enriched uranium located in Kazakhstan at the time of the dissolution of the Soviet Union is within the scope of the Russian Suspension Agreement. Respondent interested parties filed an opposition to the scope request on August 27, 1999. That scope request is pending before the Department.

Determination

As a result of the determinations by the Department and the ITC that termination of the suspended investigation would likely lead to continuation or recurrence, respectively, of dumping and material injury to an industry in the United States, pursuant to section 751(d)(2) of the Act, the Department hereby orders the continuation of the Suspension Agreement. The effective date of continuation of this Suspension Agreement will be the date of publication in the Federal Register of this Notice of Continuation. Pursuant to sections 751(c)(2) and 751(c)(6) of the Act, the Department intends to initiate the next five-year sunset review of this Suspension Agreement not later than July 2011.

This five-year (sunset) review and notice are in accordance with section 751(c) of the Act and published pursuant to section 777(I)(1) of the Act.

Dated: August 7, 2006.
Joseph A. Spetrini,
Acting Assistant Secretary for Import Administration.

[FR Doc. E6-13195 Filed 8-10-06; 8:45 am]

BILLING CODE 3510-DS-S